DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker license are canceled without prejudice.

Name | License # | Issuing Port
Michael Dugan | 04718 | Champlain.
Douglas McKenny | 09061 | Champlain.

These brokers hold multiple Customs broker licenses. They continue to hold other valid Customs broker licenses.

Dated: August 20, 2003.
Jayson P. Ahern,
Assistant Commissioner, Office of Field Operations.

[FR Doc. 03-22065 Filed 8-27-03; 8:45 am]

BILLING CODE 4820-02-P